DEPARTMENT OF LABOR

Office of the Secretary

Agency Information Collection Activities; Submission for OMB Review; Comment Request; Training Plans, New Miner Training, Newly Hired Experienced Miner Training

ACTION: Notice.

SUMMARY: The Department of Labor (DOL) is submitting the Mine Safety and Health Administration (MSHA) sponsored information collection request (ICR) titled, “Training Plans, New Miner Training, Newly Hired Experienced Miner Training,” to the Office of Management and Budget (OMB) for review and approval for continued use, without change, in accordance with the Paperwork Reduction Act of 1995 (PRA), 44 U.S.C. 3501 et seq. Public comments on the ICR are invited.

DATES: The OMB will consider all written comments that agency receives on or before September 11, 2015.

ADDRESSES: A copy of this ICR with applicable supporting documentation; including a description of the likely respondents, proposed frequency of response, and estimated total burden may be obtained free of charge from the RegInfo.gov Web site at http://www.reginfo.gov/public/do/PRAViewICR?ref_nbr=201410-1219-001 (this link will only become active on the day following publication of this notice) or by contacting Michel Smyth by telephone at 202-693-4129, TTY 202-693-8064, (these are not toll-free numbers) or by email at DOL_PRA_PUBLIC@dol.gov.

Submit comments about this request by mail or courier to the Office of Information and Regulatory Affairs, Attn: OMB Desk Officer for DOL-MSHA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or by email at DOL_PRA_PUBLIC@dol.gov.

SUPPLEMENTARY INFORMATION:

Authority: 44 U.S.C. 3507(a)(1)(D).

This ICR seeks to extend PRA authority for the Training Plans, New Miner Training, Newly Hired Experienced Miner Training information collection. Training informs miners of safety and health hazards inherent in the workplace and enables miners to identify and avoid such hazards. Training becomes even more important in light of certain conditions that can exist when production demands increase—such as an influx of new and less experienced miners and mine operators, longer work hours to meet production demands, and increased demand for contractors who may be less familiar with the dangers on mine property. This ICR covers reporting and recordkeeping as follows: regulations 30 CFR 46.3(a) requires a mine operator to develop and implement a written training plan that contains effective training programs; § 46.3(c) specifies when an operator must submit a plan to the MSHA for approval; § 46.3(e) allows for a miner or miner representative to submit written comments on a training plan; § 46.3(g) requires the mine operator to provide the miners' representative, if any, with a copy of the approved training plan within one (1) week of approval (at a mine where no miners' representative has been designated, the operator must post a copy of the plan at the mine site or provide a copy to each miner); § 46.3(h) allows a mine operator, contractor, miner, or miners' representative to appeal—in writing—the Regional Manager's decision to the MSHA Director for Educational Policy and Development; § 46.3(i) requires mine operators and contractors to make available at the mine site a copy of the current training plan for inspection by the MSHA and for examination by miners and their representatives (if the training plan is not maintained at the mine site, the operator must have the capability to provide the plan within one (1) business day upon request to the MSHA, miners, or their representatives); § 46.5(a) requires a mine operator to provide each new miner with no less than 24 hours of training; § 46.6(a) requires an operator to provide each newly hired experienced miner with certain specified training before the miner begins work; § 46.7(a) requires that before a miner performs a new task for which the miner has no experience, the operator must train the miner in the safety and health aspects and safe work procedures specific to that task; § 46.7(b) requires that if changes have occurred in a miner's regularly assigned task that affects the health and safety risks encountered by the miner, the operator must provide the miner with training that addresses the changes; § 46.8(a) requires an operator provide each miner with no less than eight (8) hours of refresher training, at least every twelve (12) months; § 46.9 requires an operator, upon completion of each training program, to record and certify on MSHA Form 5000-23 (separately cleared under control number 1219-0009) the miner has completed the training; and § 46.11(a) requires an operator to provide site-specific hazard training to specific persons before they are exposed to mine hazards. Federal Mine Safety and Health Act of 1977 sections 101(a) and 103(h) authorize this information collection. See 30 U.S.C. 811(a); 813(h).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1219-0131.

OMB authorization for an ICR cannot be for more than three (3) years without renewal, and the current approval for this collection is scheduled to expire on August 31, 2015. The DOL seeks to extend PRA authorization for this information collection for three (3) more years, without any change to existing requirements. The DOL notes that existing information collection requirements submitted to the OMB receive a month-to-month extension while they undergo review. For additional substantive information about this ICR, see the related notice published in the Federal Register on May 11, 2015 (80 FR 26953).

Interested parties are encouraged to send comments to the OMB, Office of Information and Regulatory Affairs at the address shown in the ADDRESSES section within thirty (30) days of publication of this notice in the Federal Register. In order to help ensure appropriate consideration, comments should mention OMB Control Number 1219-0131. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Training Plans, New Miner Training, Newly Hired Experienced Miner Training.

OMB Control Number: 1219-0131.

Affected Public: Private Sector—businesses or other for-profits.

Total Estimated Number of Respondents: 11,657.

Total Estimated Number of Responses: 1,157,241.

Total Estimated Annual Time Burden: 155,240 hours.

Total Estimated Annual Other Costs Burden: $356,004.

Dated: August 6, 2015.
Michel Smyth,
Departmental Clearance Officer.

[FR Doc. 2015-19749 Filed 8-11-15; 8:45 am]

BILLING CODE 4510-43-P